DEPARTMENT OF COMMERCE

Census Bureau

Agency Information Collection Activities; Submission to the Office of Management and Budget (OMB) for Review and Approval; Comment Request; Small Business Pulse Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 19, 2020 during a 60-day comment period. This notice allows for an additional 30 days for public comments.

Agency: Census Bureau, Department of Commerce.

Title: Small Business Pulse Survey.

OMB Control Number: 0607-1014.

Form Number(s): None.

Type of Request: Regular Submission, Request for a Revision of a Currently Approved Collection.

Number of Respondents: 810,000 (22,500 responses per week for up to a maximum of 36 weeks of collection).

Average Hours per Response: 6 minutes.

Burden Hours: 81,000 + 3 hours for cognitive testing = 81,003.

Needs and Uses: Phase 1 of the Small Business Pulse Survey was launched on April 26, 2020 as an effort to produce and disseminate high-frequency, geographic- and industry-detailed experimental data about the economic conditions of small businesses as they experience the coronavirus pandemic. It is a rapid response endeavor that leverages the resources of the federal statistical system to address emergent data needs. Given the rapidly changing dynamics of this situation for American small businesses, the Small Business Pulse Survey has been successful in meeting an acute need for information on changes in revenues, business closings, employment and hours worked, disruptions to supply chains, and expectations for future operations. In addition, the Small Business Pulse Survey provided important estimates of federal program uptake to key survey stakeholders.

Due to the ongoing nature of the pandemic, the Census Bureau subsequently conducted Phases 2 through 6 of the Small Business Pulse Survey. The Office of Management and Budget authorized clearance of Phase 6 of the Small Business Pulse Survey on August 6, 2021. The Census Bureau now seeks approval to conduct Phase 7 of the Small Business Pulse Survey which will occur over 9 weeks starting November 15, 2021.

The continuation of the Small Business Pulse Survey is responsive to stakeholder requests for high frequency data that measure the effect of changing business conditions during the Coronavirus pandemic on small businesses. While the ongoing monthly and quarterly economic indicator programs provide estimates of dollar volume outputs for employer businesses of all size, the Small Business Pulse Survey captures the effects of the pandemic on operations and finances of small, single location employer businesses. As the pandemic continues, the Census Bureau is best poised to collect this information from a large and diverse sample of small businesses.

It is hard to predict when a shock will result in economic activity changing at a weekly, bi-weekly, or monthly frequency. Early in the pandemic, federal, state, and local policies were moving quickly so it made sense to have a weekly collection. The problem is that while we are in the moment, we cannot accurately forecast the likelihood of policy action. In addition, we are not able to forecast a change in the underlying cause of policy actions: The effect of the Coronavirus pandemic on the economy. We cannot predict changes in the severity of the pandemic (e.g., will it worsen in flu season?) nor future developments that will alleviate the pandemic (e.g., vaccines or treatments). In a period of such high uncertainty, the impossibility of forecasting these inflection points underscores the benefits of having a weekly survey. For these reasons, the Census Bureau will proceed with a weekly collection.

SBPS Phase 7 content includes the core concepts seen throughout the SBPS previous phases, such as overall impact, business closures/openings, revenue and employment changes, workplace vaccine and testing requirements, and business outlook. New business norms questions 14-16 were introduced for phase 6 and will continue to Phase 7. Based on feedback from the Department of Commerce's chief economist, another new business norm question was developed. Question 17 was developed to capture business changes not included in question 14-16. The responses to the new question are captured through a select all that apply. This question was cognitively tested with six businesses. Additionally, in anticipation of potential pandemic reoccurrence with economic impact on small businesses, we have included the previous cash on hand question. To balance out the questionnaire with these new additions, we removed the question inquiring about revenues from exports and the open-ended question with 1000 characters. The remarks field at the end of the survey will still be present.

All results from the Small Business Pulse Survey will continue to be disseminated as U.S. Census Bureau Experimental Data Products (https://portal.census.gov/pulse/data/). This and additional information on the Small Business Pulse Survey are available to the public on census.gov.

Affected Public: Business or other for-profit organizations.

Frequency: Small business will be selected once to participate in a 6-minute survey.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1014.

Sheleen Dumas,
Department PRA Clearance Officer, Office of the Chief Information Officer, Commerce Department.

[FR Doc. 2021-20421 Filed 9-20-21; 8:45 am]

BILLING CODE 3510-07-P